INTERNATIONAL TRADE COMMISSION

[Inv. No. 332-510]

Small and Medium-Sized Enterprises: Characteristics and Performance

AGENCY: United States International Trade Commission.

ACTION: Institution of investigation and scheduling of hearing.

SUMMARY: Following receipt of a request on October 6, 2009, from the United States Trade Representative (USTR) under section 332(g) of the Tariff Act of 1930 (19 U.S.C. 1332(g)), the Commission instituted investigation No. 332-510, Small and Medium-Sized Enterprises: Characteristics and Performance, to prepare the third in a series of three reports requested by the USTR relating to small and medium-sized enterprises.

DATES: January 26, 2010: Deadline for filing requests to appear at the public hearing.

January 28, 2010: Deadline for filing pre-hearing briefs and statements.

February 9, 2010: Public hearing (Washington, DC).

February 23, 2010: Deadline for filing post-hearing briefs and statements.

May 28, 2010: Deadline for filing written submissions.

October 6, 2010: Transmittal of Commission report to the USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project Leaders Laura Bloodgood (202-708-4726 or laura.bloodgood@usitc.gov) or William Deese (202-205-2626 or william.deese@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR requested, under the authority of section 332(g) of the Tariff Act of 1930, that the Commission provide three reports during the next 12 months relating to small and medium-sized enterprises (SMEs). In this notice the Commission is instituting the third of three investigations under section 332(g) for the purpose of preparing the third report, which is to be transmitted to the USTR by October 6, 2010. The Commission published notices of institution of the first investigation, investigation No. 332-508, in the Federal Register of October 28, 2009 (74 FR 55581) and the second investigation, investigation No. 332-509, in the Federal Register of December 1, 2009 (74 FR 62812).

As requested, in the third report the Commission will, to the extent possible:

1. Examine U.S. SMEs engaged in providing services, including the characteristics of firms that produce tradable services, the growth in these services exports, and the differences between SME and large services exporters;

2. Identify how data gaps might be overcome to further enhance our understanding of SMEs in services sector exports;

3. For both goods and services exports, identify trade barriers (nontariff barriers and tariffs) that may disproportionately affect SME export performance, as well as possible linkages between exporting and SME performance; and

4. Provide insights on the degree to which SMEs operate as multinationals, as affiliate firms, or as contributors of indirect exports to international trade through sales to larger exporting firms.

The USTR requested that the Commission deliver the second report by October 6, 2010.

Public Hearing: The Commission will hold a joint public hearing in connection with this investigation and investigation No. 332-509 at the U.S. International Trade Commission Building, 500 E Street, SW., Washington, DC, beginning at 9:30 a.m. on Tuesday, February 9, 2010 (and continuing on February 10, 2010, if needed). Requests to appear at the public hearing should be filed with the Secretary no later than 5:15 p.m., January 26, 2010, in accordance with the requirements in the “Submissions” section below. Persons wishing to appear should indicate in their request to appear whether they plan to provide testimony with respect to investigation No. 332-509, investigation No. 332-510, or both investigations. All pre-hearing briefs and statements should be filed not later than 5:15 p.m., January 28, 2010; and all post-hearing briefs and statements responding to matters raised at the hearing should be filed not later than 5:15 p.m., February 23, 2010. In the event that, as of the close of business on January 26, 2010, no witnesses are scheduled to appear at the hearing, the hearing will be canceled. Any person interested in attending the hearing as an observer or non-participant may call the Office of the Secretary (202-205-2000) after January 26, 2010, for information concerning whether the hearing will be held. The Commission is also considering holding additional hearings in Portland, Oregon and St. Louis, Missouri. Notice of the time, date, and place of those hearings will be published at a later date.

Written Submissions: In lieu of or in addition to participating in the hearing, interested parties are invited to file written submissions concerning this investigation. All written submissions should be addressed to the Secretary, and all such submissions (other than pre- and post-hearing briefs and statements) should be received not later than 5:15 p.m., May 28, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter, the USTR stated that his office intends to make the Commission's reports available to the public in their entirety, and asked that the Commission not include any confidential business information or national security classified information in the reports that the Commission transmits to his office. Any confidential business information received by the Commission in this investigation and used in preparing this report will not be published in a manner that would reveal the operations of the firm supplying the information.

By order of the Commission.
Issued: December 7, 2009.
Marilyn R. Abbott,
Secretary to the Commission.

[FR Doc. E9-29518 Filed 12-10-09; 8:45 am]

BILLING CODE 7020-02-P